DEPARTMENT OF THE INTERIOR

Fish and Wildlife Service

[FWS-HQ-ES-2017-N026; FF09E42000 178 FXES11130900000]

Endangered Species; Issuance of Recovery Permits

AGENCY: Fish and Wildlife Service, Interior.

ACTION: Notice of issuance of recovery permits.

SUMMARY: We, the U.S. Fish and Wildlife Service, have issued the following permits to conduct activities with endangered and threatened species under the authority of the Endangered Species Act (Act), as amended. With some exceptions, the Act prohibits activities involving listed species unless a Federal permit is issued that allows such activity. We provide this list for the convenience of the public as a summary of our permit issuances for the second half of calendar year 2016.

FOR FURTHER INFORMATION CONTACT: See the contact information in the Permits Issued section.

SUPPLEMENTARY INFORMATION: We have issued the following permits to conduct activities with endangered and threatened species in response to recovery permit applications that we received under the authority of section 10(a)(1)(A) of the Endangered Species Act (16 U.S.C. 1531 et seq.). These permits were issued between July 1, 2016, and December 31, 2016. Each permit was issued only after we determined that it was applied for in good faith, that granting the permit would not be to the disadvantage of the listed species, that the proposed activities were for scientific research or would benefit the recovery or the enhancement of survival of the species, and that the terms and conditions of the permits were consistent with the purposes and policy set forth in the Act.

Permits Issued

Region 1 (Pacific Region: Hawaii, Idaho, Oregon (Except for the Klamath Basin), Washington, American Samoa, Commonwealth of the Northern Mariana Islands, Guam, and the Pacific Trust Territories)

The following permits were applied for and issued in Region 1. For more information about any of the following permits, contact the Recovery Permit Coordinator by email at PermitsR1ES@fws.gov or by telephone at 503-231-6131.

Permit No. | Date issued | Applicant name
841627 | 07/01/16 | GERHARDT, RICHARD P.
95620B | 07/01/16 | REYNOLDS, TIMOTHY D.
026280 | 07/18/16 | U.S. FOREST SERVICE, PACIFIC NORTHWEST RESEARCH STATION.
22353B | 07/27/16 | CENTER FOR NATURAL LANDS MANAGEMENT.
67017A | 07/27/16 | NOAA/NMFS/NORTHWEST FISHERIES SCIENCE CENTER.
64022A | 08/03/16 | CONFEDERATED TRIBES OF THE WARM SPRINGS RESERVATION OF OREGON.
67121B | 09/09/16 | PACIFIC RIM CONSERVATION.
84876A | 09/13/16 | ANDERSEN AIR FORCE BASE, 36 CES/CEV.
060179 | 09/29/16 | ZOOLOGICAL SOCIETY OF SAN DIEGO.
227268 | 10/20/16 | COLUMBIA RIVER INTER-TRIBAL FISH COMMISSION.
030394 | 10/20/16 | KING COUNTY DEPARTMENT OF NATURAL RESOURCES AND PARKS.
02971C | 10/28/16 | WELLER, STEPHEN G.
049004 | 10/28/16 | BUREAU OF INDIAN AFFAIRS.
022743 | 10/28/16 | GRANT COUNTY PUBLIC UTILITY DISTRICT NO. 2.
09155B | 11/16/16 | HA, RENEE ROBINETTE.
06431C | 12/07/16 | BLESSING, BONNIE J.
08598C | 12/23/16 | THE INSTITUTE FOR BIRD POPULATIONS.

Region 2 (Southwest Region: Arizona, New Mexico, Oklahoma, and Texas)

The following permits were applied for and issued in Region 2. For more information about any of the following permits, contact the Recovery Permit Coordinator by email at PermitsR2ES@fws.gov or by telephone at 505-248-6665.

Permit No. | Date issued | Applicant name
053083 | 07/01/16 | KUTZ, JULIE A.
067868 | 07/11/16 | CORONADO NATIONAL MEMORIAL.
89853B | 07/11/16 | MORE-HLA, RACHEL A.
91694B | 07/11/16 | CRAMER, STEVEN S.
88214B | 07/11/16 | MACEY, JOHN N.
65178A | 07/11/16 | REIDY, JENNIFER L.
106816 | 07/19/16 | DOUGLAS HIGH SCHOOL.
89854B | 07/19/16 | STONE, SHAWN P.
827726 | 07/19/16 | U.S. FOREST SERVICE—TONTO NATIONAL FOREST.
89697B | 07/19/16 | DATRI, CRYSTAL W.
41814B | 07/19/16 | TUCSON AUDUBON SOCIETY.
843513 | 07/19/16 | USDA FS—KAIBAB NATIONAL FOREST.
87818B | 08/01/16 | GREGORY, MELANIE L.
88789B | 08/01/16 | DAVIS, SHARON N.
91812B | 08/01/16 | AGOSTO, MINALY.
92103B | 08/01/16 | MCBRYAR, MARY A.
84375B | 08/01/16 | JOHNSON, MARY E.
89699B | 08/01/16 | SAM HOUSTON STATE UNIVERSITY.
63200B | 08/01/16 | AUDUBON ARIZONA.
082492 | 08/05/16 | HATHCOCK, CHARLES D.
802211 | 08/29/16 | TEXAS STATE UNIVERSITY—SAN MARCOS.
64710A | 09/06/16 | JACKSON, JACOB T.
35437B | 09/07/16 | USDA FOREST SERVICE—SANTA FE NATIONAL FOREST.
051832 | 09/07/16 | PHOENIX ZOO.
071287 | 09/09/16 | CHRISTMAN, BRUCE L.
819491 | 09/09/16 | ECOSPHERE ENVIRONMENTAL SERVICES.
028605 | 09/09/16 | SWCA ENVIRONMENTAL CONSULTANTS—FLAGSTAFF.
60111B | 09/09/16 | ROBB, NATALIE J.
094375 | 09/09/16 | AZIMUTH FORESTRY SERVICES, INC.
099278 | 09/09/16 | FRED PHILLIPS CONSULTING.
88788B | 09/09/16 | SUMMERLIN, JEFFERSON B.
43746A | 09/14/16 | NORTHERN ARIZONA UNIVERSITY.
99156B | 09/14/16 | BALISTRERI, MICHAEL C.
98651B | 09/14/16 | DELGADO, EDGARDO L.
94245B | 09/14/16 | POWERS, JARROD J.
00536C | 09/14/16 | COBURN, FRANCIS S.
009926 | 11/08/16 | GULF SOUTH RESEARCH CORPORATION.
168185 | 11/08/16 | COX/MCLAIN ENVIRONMENTAL CONSULTING, INC.
054791 | 11/08/16 | MARSHALL, BRYCE L.
67491A | 11/08/16 | PERMITS WEST, INC.
95116B | 11/08/16 | UNIVERSITY OF ARIZONA.
02962C | 11/08/16 | CAPPS, ERIKA MACLYNN.
00482C | 11/08/16 | DILLSAVER, WILLIAM J.
99159B | 11/08/16 | ELLIS, ELI J.
00479C | 11/08/16 | JOHNSON, KEVIN L.
00480C | 11/08/16 | SEIDEN, CHRISTOPHER J.
83692A | 11/08/16 | SPHERE 3 ENVIRONMENTAL, INC.
91831B | 11/08/16 | VICENIK, CODY J.
02952C | 11/08/16 | WESTWARD ENVIRONMENTAL, INC.
35147A | 11/08/16 | NEWSTEAD, DAVID J.
004439 | 11/14/16 | ALBUQUERQUE BIOLOGICAL PARK.
829996 | 11/18/16 | HOUSTON ZOO, INC.
836329 | 12/30/16 | BLANTON & ASSOCIATES.

Region 3 (Midwest Region: Illinois, Indiana, Iowa, Michigan, Minnesota, Missouri, Ohio, and Wisconsin)

The following permits were applied for and issued in Region 3. For more information about any of the following permits, contact the Recovery Permit Coordinator by email at PermitsR3ES@fws.gov or by telephone at 612-713-5343.

Permit No. | Date issued | Applicant name
02378A | 07/01/16 | U.S. ARMY CORPS OF ENGINEERS.
181256 | 07/01/16 | LEWIS ENVIRONMENTAL CONSULTING, LLC.
03495B | 07/01/16 | HAMMOND, KRISTINA R.
85231B | 07/01/16 | KALAMAZOO NATURE CENTER.
06873B | 07/05/16 | CARSON, ANDREW R.
64080B | 07/05/16 | MICHIGAN STATE UNIVERSITY.
31355B | 07/06/16 | HINES, BROOKE A.
71821A | 07/06/16 | ZANATTA, DAVID T.
77313A | 07/06/16 | EGRET ENVIRONMENTAL CONSULTING, LLC.
049738 | 07/07/16 | THIRD ROCK CONSULTANTS, LLC.
217351 | 07/07/16 | U.S. FOREST SERVICE.
08603A | 07/07/16 | MALCOSKY, MICHELLE.
62311A | 07/07/16 | GILMORE, MARY B.
64071B | 07/08/16 | ZUERCHER, GERALD L.
130900 | 07/11/16 | ENVIROSCIENCE, INC.
43605A | 07/12/16 | COX, DANIEL R.
206783 | 07/13/16 | PERDICAS, MARLO M.
06801A | 07/18/16 | PITTSBURGH WILDLIFE & ENVIRONMENTAL, INC.
24334B | 07/18/16 | HATCH, SHAYLYN K.
60999A | 07/19/16 | MILLER, LEVI D.
43541A | 07/22/16 | CUTHBERT, FRANCESCA J.
89557A | 07/22/16 | TRC COMPANIES, INC.
88224B | 07/22/16 | SNAVELY, JOSEPH C.
03450B | 07/25/16 | BASIGER, ERIN L.
85229B | 07/26/16 | STONE, JEFFREY L.
71041B | 07/27/16 | KUCZYNSKA, IWONA.
182436 | 07/29/16 | ILLINOIS NATURAL HISTORY SURVEY.
38821A | 07/29/16 | STANTEC CONSULTING SERVICES.
042946 | 07/29/16 | SOUTHERN ILLINOIS UNIVERSITY.
15027A | 08/02/16 | STANTEC CONSULTING SERVICES, INC.
206781 | 08/02/16 | ECOLOGICAL SPECIALISTS, INC.
38835A | 08/02/16 | LAND CONSERVANCY OF WEST MICHIGAN.
207523 | 08/02/16 | THE NATURE CONSERVANCY—MICHIGAN CHAPTER.
02365A | 08/12/16 | ROBBINS, LYNN W.
98111A | 08/15/16 | OHIO DEPARTMENT OF TRANSPORTATION.
113009 | 08/15/16 | AHLSTEDT, STEVEN A.
829986 | 08/16/16 | THE FIELD MUSEUM OF NATURAL HISTORY.
94321A | 08/16/16 | O'NEILL, BRIAN J.
92978B | 08/23/16 | HELMS & ASSOCIATES.
08603A | 08/24/16 | MALCOSKY, MICHELLE.
72098B | 08/29/16 | LUTHER COLLEGE WIND ENERGY PROJECT LLC.
02373A | 08/30/16 | ENVIRONMENTAL SOLUTIONS AND INNOVATIONS, INC.
07358A | 08/31/16 | CIVIL AND ENVIRONMENTAL CONSULTANTS, INC.
81968B | 09/02/16 | HART, CURTIS M.
35517B | 09/06/16 | ARNOLD, BRYAN D.
62311A | 09/06/16 | GILMORE, MARY B.
85232B | 09/09/16 | KAISER, ZACHARY.
838715 | 09/09/16 | THE NATURE CONSERVANCY, OHIO.
06820A | 09/14/16 | BENEDICT, RUSSELL A.
06873B | 09/19/16 | CARSON, ANDREW R.
10887A | 09/19/16 | U.S. GEOLOGICAL SURVEY.
94330A | 09/20/16 | KREBS, ROBERT A.
85228B | 09/21/16 | SCHRODER, ERIC S.
99056B | 09/22/16 | WELLS, MARION E.
98057A | 10/03/16 | MILLS, LYNDA M.
38842A | 10/11/16 | SANDERS ENVIRONMENTAL INC.
31355B | 10/11/16 | HINES, BROOKE A.
217351 | 10/11/16 | U.S. FOREST SERVICE.
06844A | 10/13/16 | U.S. ENVIRONMENTAL PROTECTION AGENCY.
088720 | 10/14/16 | WATTERS, GEORGE T.
839763 | 10/19/16 | WHITAKER, JOHN O.
049738 | 10/19/16 | THIRD ROCK CONSULTANTS, LLC.
27915B | 10/19/16 | WILDLIFE SPECIALISTS, LLC.
85233B | 10/20/16 | COLATSKIE, SHELLY N.
98674B | 10/20/16 | GERDES, CHEYENNE L.
99052B | 10/28/16 | EKO CONSULTING LLC.
88353B | 10/28/16 | DE LA CRUZ, JESSE L.
98673B | 10/31/16 | LAYNE, JASON T.
99058B | 10/31/16 | FLINN, JOSHUA R.
81974B | 11/02/16 | THE BOARD OF TRUSTEES OF EASTERN ILLINOIS UNIVERSITY.
35521B | 11/02/16 | WESTERN ECOSYSTEMS TECHNOLOGY, INC.
98294A | 11/03/16 | NORMANDEAU ASSOCIATES, INC.
71718A | 11/10/16 | STEFFEN, BRADLEY J.
03495B | 11/10/16 | HAMMOND, KRISTINA R.
04399C | 11/14/16 | CLEVELAND MUSEUM OF NATURAL HISTORY.
64238B | 11/21/16 | KARSK, JOCELYN.
01320C | 11/21/16 | CONFORTIN, KRISTI A.
77313A | 11/23/16 | EGRET ENVIRONMENTAL CONSULTING, LLC.
31355B | 11/28/16 | HINES, BROOKE A.
86150B | 11/28/16 | PALMER, GEOFFREY H.
99051B | 12/02/16 | ISKALI, GONIELA.
98294A | 12/27/16 | NORMANDEAU ASSOCIATES, INC.
99059B | 12/6/16 | UNIVERSITY OF WISCONSIN—MADISON.
174388 | 12/12/16 | METROPOLITAN PARK DISTRICT OF THE TOLEDO AREA.
06778A | 12/27/16 | SHAWNEE NATIONAL FOREST.

Region 4 (Southeast Region: Alabama, Arkansas, Florida, Georgia, Kentucky, Louisiana, Mississippi, North Carolina, South Carolina, and Tennessee, Commonwealth of Puerto Rico, and the U.S. Virgin Islands)

The following permits were applied for and issued in Region 4. For more information about any of the following permits, contact the Recovery Permit Coordinator by email at PermitsR4ES@fws.gov or by telephone at 404-679-7140.

Permit No. | Date issued | Applicant name
56749B | 07/26/16 | MOORE, PATRICK R.
34882A | 07/31/16 | BAILEY, MARK A.
108990 | 08/03/16 | SPEARS, RONALD E.
064856 | 08/10/16 | FARRIS, TRENT A.
98486B | 08/10/16 | UNIVERSITY OF MISSISSIPPI BIOLOGY DEPARTMENT.
12392A | 08/11/16 | INSTITUTE FOR MARINE MAMMAL STUDIES.
00442C | 08/15/16 | SIPOS, MICHAEL P.
99347B | 08/15/16 | TEXAS TECH UNIVERSITY.
142806 | 09/13/16 | COX, JAMES A.
206872 | 09/15/16 | O'KEEFE, JOY M.
040792 | 09/16/16 | SAVANNAH RIVER—U.S. FOREST SERVICE.
78650B | 09/16/16 | SCHMIDT, CASSIE P.
99265B | 09/16/16 | JOHNSTON, CAROL E.
102324 | 09/21/16 | DICKINSON, THOMAS E.
88778B | 09/21/16 | LAMB, JOHN W.
016270 | 09/22/16 | FORT BENNING CONSERVATION BRANCH.
091705 | 09/23/16 | NORTH CAROLINA BOTANICAL GARDEN.
824723 | 09/25/16 | BOWMAN, REED.
38397A | 09/25/16 | CRAVEN, KATHRYN S.
125557 | 10/24/16 | ALLEN, BARBARA P.
021030 | 10/25/16 | RUDZINSKI, STANLEY B.
079972 | 10/27/16 | BAKA, ERIC J.
822525 | 10/28/16 | MCGLINCY, JOE A.
145561 | 10/31/16 | ENVIRON INTERNATIONAL CORPORATION.
02165C | 11/07/16 | STOUT, ISAAC J.
136808 | 11/07/16 | LOGGERHEAD MARINELIFE CENTER.
084047 | 11/09/16 | ST. JOHNS RIVER WATER MANAGEMENT DISTRICT.
206777 | 11/10/16 | RALPH COSTA'S WOODPECKER OUTFIT, LLC.
50652A | 11/14/16 | BOLT, MARY R.
130300 | 11/16/16 | JOHNSON, PAUL D.
03305C | 11/18/16 | U.S. ARMY CORPS OF ENGINEERS, MEMPHIS DISTRICT.
142294 | 11/19/16 | HOLIMON, WILLIAM (BILL) C.
31355B | 11/28/16 | HINES, BROOKE A.
48582B | 12/13/16 | CHASE, KIM R.
81430B | 12/13/16 | WALLACE, HEATHER L.
801914 | 12/15/16 | SAVANNAH RIVER ECOLOGY LAB.

Region 5 (Northeast Region: Connecticut, Delaware, Maine, Maryland, Massachusetts, New Hampshire, New Jersey, New York, Pennsylvania, Rhode Island, Vermont, Virginia, and West Virginia)

The following permits were applied for and issued in Region 5. For more information about any of the following permits, contact the Recovery Permit Coordinator by email at PermitsR5ES@fws.gov or by telephone 703-358-2402.

Permit No. | Date issued | Applicant name
01150C | 7/6/16 | NOAA FISHERIES SERVICE.
01359C | 8/24/16 | UNIVERSITY OF MAINE.
01719C | 8/26/16 | MOSER, G.A.
06380C | 10/6/16 | NATIONAL MARINE FISHERIES SERVICE.
014668C | 12/14/16 | SEA TURTLE RECOVERY.

Region 6 (Mountain-Prairie Region: Colorado, Kansas, Montana, Nebraska, North Dakota, South Dakota, Utah, and Wyoming)

The following permits were applied for and issued in Region 6. For more information about any of the following permits, contact the Recovery Permit Coordinator by email at PermitsR6ES@fws.gov or by telephone 719-628-2670.

Permit No. | Date issued | Applicant name
97230B | 08/04/16 | NORTH DAKOTA STATE UNIVERSITY.
00442C | 08/15/16 | SIPOS, MICHAEL.
99347B | 08/15/16 | TEXAS TECH UNIVERSITY.
049109 | 10/15/16 | RED BUTTE BOTANIC GARDEN AND ARBORETUM.
03159C | 11/09/16 | MONTANA NATURAL HERITAGE PROGRAM.
79842A | 11/09/16 | WHITE, JEREMY A.
047250 | 11/14/16 | MONTANA DEPARTMENT OF FISH, WILDLIFE AND PARKS.
06447C | 11/14/16 | MONTANA DEPARTMENT OF FISH, WILDLIFE AND PARKS.
06375C | 11/14/16 | NATURAL RESOURCES CONSERVATION SERVICE.
047808 | 11/15/16 | NATIONAL PARK SERVICE.
051828 | 11/15/16 | SMITHSONIAN NATIONAL ZOOLOGICAL PARK.

Region 7 (Alaska Region)

No permits were applied for and issued in Region 7 during this time period. For more information about any permits, contact the Recovery Permit Coordinator by email at PermitsR7ES@fws.gov or by telephone at 907-786-3323.

Region 8 (Pacific Southwest Region: California, Nevada, and the Klamath Basin Portion of Oregon)

The following permits were applied for and issued in Region 8. For more information about any of the following permits, contact the Recovery Permit Coordinator by email at PermitsR8ES@fws.gov or by telephone at 760-431-9440.

Permit No. | Date issued | Applicant name
217148 | 07/07/16 | DEL PIZZO, PATRICK W.
839480 | 07/07/16 | ZEMBAL, RICHARD L.
795930 | 07/07/16 | TANSLEY TEAM, INCORPORATED.
018179 | 07/07/16 | ARCATA FISH AND WILDLIFE OFFICE.
62708B | 07/08/16 | HALTERMAN, MARY M.
17841A | 07/08/16 | TETRA TECH, INC.
63378B | 07/08/16 | U.S. FOREST SERVICE PACIFIC SOUTHWEST RESEARCH STATION, REDWOOD SCIENCES LABORATORY.
758175 | 07/11/16 | GRIFFITH WILDLIFE BIOLOGY.
084606 | 07/13/16 | MOSKOVITZ, DAVID F.
67570A | 07/13/16 | HANSHEW, BRETT A.
39142A | 07/13/16 | STANFORD UNIVERSITY/HHMI.
73946B | 07/14/16 | PARKER, AUSTIN D.
74377B | 07/14/16 | WALSH, SHANNON E.
45776A | 07/14/16 | COYLE, MATT P.
72119B | 07/20/16 | DALLMANN, SETH D.
61720B | 07/20/16 | RESOURCE CONSERVATION DISTRICT OF SANTA CRUZ COUNTY.
017549 | 07/22/16 | WHITFIELD, MARY J.
055013 | 07/22/16 | U.S. FOREST SERVICE, SAN BERNARDINO NATIONAL FOREST.
72296B | 07/22/16 | MINTZER, JASON M.
60153B | 07/22/16 | BELK, MARY S.
802450 | 07/26/16 | DAVENPORT, ARTHUR E.
67555A | 07/27/16 | SHAFFER, SHANNAN.
018180 | 07/27/16 | POINT REYES NATIONAL SEASHORE.
157221 | 07/28/16 | UNIVERSITY OF CALIFORNIA BERKELEY.
039321 | 08/05/16 | FISCHER, KYLIE.
745541 | 08/05/16 | SJM BIOLOGICAL CONSULTANTS INC.
56891A | 08/05/16 | ABRAMS, RUSH.
161512 | 08/05/16 | DOYLE, DARRIN P.
797233 | 08/08/16 | ENTOMOLOGICAL CONSULTING SERVICES, LTD.
30908B | 08/11/16 | RIVER PARTNERS.
141359 | 08/11/16 | STRINGER, STEPHEN M.
800291 | 08/15/16 | WALLACE, ANNE C.
17827A | 08/15/16 | SUMMIT LAKE PAIUTE TRIBE.
87850B | 08/16/16 | MACK, JEREMY S.
796271 | 08/17/16 | DODD, SHANA C.
67390A | 08/17/16 | SMITH, BENJAMIN J.
040193 | 08/18/16 | GOLIGHTLY, DR. RICHARD T.
44855A | 08/18/16 | SCHEUERMAN, CLINT M.
815144 | 08/18/16 | THOMPSON, ROSEMARY A.
139634 | 08/22/16 | LIDDICOAT, THOMAS S.
030659 | 08/22/16 | US GEOLOGICAL SURVEY.
211100 | 08/23/16 | PARADIS, KIMBERLY K.
82155B | 08/23/16 | PAGE, JOHANNA C.
84209B | 08/23/16 | NATIONAL SECURITY TECHNOLOGIES, LLC.
92799B | 09/15/16 | FAIRCHILD, KARL C.
139628 | 09/22/16 | GARCIA AND ASSOCIATES.
64144A | 09/22/16 | MASTRELLI, EMILY M.
001075 | 10/03/16 | BLAIN, MARC T.
74803B | 10/03/16 | ROSIE, DANIEL J.
92905B | 10/04/16 | BERRY, BRIAN J.
43597A | 10/04/16 | MCLAUGHLIN, DANA H.
74393B | 10/05/16 | UNIVERSITY OF NEVADA, LAS VEGAS.
038716 | 10/12/16 | WEGSCHEIDER, FRANK J.
64547A | 10/12/16 | USGS, BISHOP FIELD STATION.
839078 | 10/14/16 | LANGDON, SPENCER K.
86356B | 10/14/16 | SEAWORLD LLC.
005535 | 10/14/16 | GOODLETT, GILBERT O.
800931 | 10/14/16 | KENNEY, GWENDOLYN.
80703A | 10/14/16 | REIMERS, SETH B.
78055B | 10/27/16 | MATTHEWS, ROBERT K.
78388B | 10/27/16 | WESTERN SLOPE WILDLIFE LLC.
188803 | 11/14/16 | USFWS—LODI FISH AND WILDLIFE OFFICE.
795934 | 11/21/16 | ICF JONES & STOKES, INC.
031850 | 11/21/16 | CUMMINGS, GRETCHEN B.
052159 | 11/21/16 | AHRENS, JEFFREY L.
92462A | 11/21/16 | QUILLEY, RYAN G.
093591 | 11/21/16 | ROBB, LINDA M.
85604B | 11/21/16 | ROELAND, KIMBERLY N.
144964 | 11/21/16 | JANSEN, DEREK S.
74753B | 11/21/16 | NISICH, STEFANIE M.
86213B | 11/21/16 | ROSETO, ALAN D.
134370 | 11/21/16 | PRIMROSE, BRANT C.
797665 | 12/21/16 | RECON ENVIRONMENTAL, INC.
048739 | 12/21/16 | CORDOVA, DANIEL A.
012137 | 12/21/16 | FORT HUNTER LIGGETT, DEPARTMENT OF THE ARMY.
200340 | 12/21/16 | HATCH, ANDREW R.
096745 | 12/21/16 | LARSON, SCOTT.
040541 | 12/21/16 | EAST BAY MUNICIPAL UTILITY DISTRICT.
810768 | 12/22/16 | HARMSWORTH ASSOCIATES.
225974 | 12/22/16 | MIDPENINSULA REGIONAL OPEN SPACE DISTRICT.
785564 | 12/28/16 | BUMGARDNER BIOLOGICAL CONSULTING.
134334 | 12/28/16 | HULSE, LINCOLN R.
067064 | 12/28/16 | MESSETT, LINDSAY A.
85771B | 12/28/16 | MULLEN, KAREN M.
86222B | 12/28/16 | RIPPERGER, ETHAN J.
86278B | 12/28/16 | ANDERSON, ANDREW J.
85618B | 12/28/16 | BIOLOGICAL RESOURCES SERVICES LLC.
86906B | 12/28/16 | DOI-NPS-YOSEMITE NATIONAL PARK.
072650 | 12/28/16 | MICHAUD-LAIRD, JENNIFER C.
94977A | 12/28/16 | ROBERTSON, THEODORE D.
84210B | 12/28/16 | STORCK, AMY E.
181714 | 12/28/16 | JOHNSON, PIETER TJ.
090990 | 12/28/16 | SANTA CATALINA ISLAND CONSERVANCY.
86449B | 12/28/16 | SANDMEIER, FRANZISKA C.
052404 | 12/29/16 | PALKOVIC, AMY L.
88748B | 12/29/16 | WALTHER, ERIKA L.
825573 | 12/29/16 | CYPHER, BRIAN L.

Availability of Documents

The Federal Register documents publishing the receipt of applications for these permits may be viewed here: https://www.fws.gov/policy/frsystem/default.cfm. Documents and other information submitted with these applications are available for review subject to the requirements of the Privacy Act and Freedom of Information Act, by any party who submits a written request for a copy of such documents. For detailed information regarding a particular permit, please contact the Region that issued the permit.

Authority

We provide this notice under the authority of section 10 of the Act (16 U.S.C. 1531 et seq.).

Dated: March 17, 2017.
Don Morgan,
Chief, Branch of Recovery and State Grants.

[FR Doc. 2017-08368 Filed 4-25-17; 8:45 am]

BILLING CODE 4333-15-P